DEPARTMENT OF LABOR

Employment and Training Administration

[NAFTA-4833]

Crest Uniform Company, New York, NY; Notice of Termination of Investigation

Pursuant to title V of the North American Free Trade Agreement Implementation Act (Pub. L. 103-182) concerning transitional adjustment assistance, hereinafter called NAFTA-TAA and in accordance with section 250(a), subchapter 2, title II, of the Trade Act of 1974, as amended (19 U.S.C. 2331), an investigation was initiated on April 27, 2001, in response to a petition filed on behalf of workers at Crest Uniform Company, New York, New York. The workers produced uniforms and career apparel. The facility closed in late 2000.

Workers at the subject firm were certified eligible to apply for Trade Adjustment Assistance on June 6, 2001 (TA-W-38,892). A new investigation and determination would not affect the benefits workers are currently eligible to receive. Consequently, further investigation in this case would serve no purpose, and the investigation has been terminated.

Signed in Washington, DC this 17th day of September, 2002.
Edward A. Tomchick,
Certifying Officer, Division of Trade Adjustment Assistance.

[FR Doc. 02-26747 Filed 10-21-02; 8:45 am]

BILLING CODE 4510-30-P